DEPARTMENT OF STATE

[Public Notice: 7323]

U.S. National Commission for UNESCO Notice of Meeting in Closed and Open Session

The U.S. National Commission for UNESCO will hold a meeting in closed session on Thursday March 10, 2011, from 1 p.m. to 1:30 p.m. EST. Commission members will convene in closed session in order to discuss applications for the U.S. National Commission for UNESCO Laura W. Bush Traveling Fellowship, a fellowship funded through privately donated funds. This session will be closed pursuant to Section 10(d) of the Federal Advisory Committee Act and 5 U.S.C. 552b(c)(6) because it is likely to involve discussion of information of a personal nature regarding the relative merits of individual applicants where disclosure would constitute a clearly unwarranted invasion of personal privacy.

From 1:30 p.m. to 2 p.m. on Thursday March 10, 2011, the U.S. National Commission for UNESCO will meet in open session, with public participation by telephone. The open session will feature a discussion about the Commission's upcoming programmatic schedule, during which the Commission will accept brief oral comments or questions from the public or media. The public comment period will be limited to approximately 10 minutes in total, with 2 minutes allowed per speaker.

For more information or to arrange to participate in the open portion of the meeting, individuals should contact Eric Woodard, Executive Director of the U.S. National Commission for UNESCO, Washington, DC 20037. Telephone (202) 663-0026; Fax 202-663-0035; E-mail DCUNESCO@state.gov.

Dated: February 24, 2011.
Eric Woodard,
Executive Director, U.S. National Commission for UNESCO, Department of State.

[FR Doc. 2011-4715 Filed 3-2-11; 8:45 am]

BILLING CODE 4710-19-P